DEPARTMENT OF COMMERCE

International Trade Administration

Safety and Security Trade Mission to Saudi Arabia and Kuwait; November 12-18, 2016

AGENCY: International Trade Administration, Department of Commerce.

ACTION: Notice.

SUMMARY: The United States Department of Commerce (DOC), International Trade Administration (ITA), U.S. and Foreign Commercial Service (CS), is organizing an executive-led Safety and Security Trade Mission to Kuwait and Saudi Arabia scheduled for November 12-18, 2016. The objective of the mission is to introduce U.S. firms to Kuwait and Saudi Arabia's homeland security market and to assist U.S. companies pursue export opportunities in this sector. The mission is intended to include representatives from leading U.S. companies that provide state-of-the-art security and safety equipment. The mission will visit Kuwait City, Riyadh and Dhahran, where participants will receive market briefings and participate in customized meetings with key safety and security officials and prospective partners in the private and public sector. The trade mission will coincide with the IFSEC exhibition scheduled in Riyadh from November 14-16, 2016.

Trade mission participants will begin their business mission in Kuwait City, where CS Kuwait will arrange meetings with private and public sector officials that would include the procurement division of the Ministry of Interior.

The mission will aid participating firms to gain market insights, make industry contacts, solidify business strategies, and advance specific projects, with the goal of increasing U.S. exports to Kuwait and Saudi Arabia. The mission will include one-on-one business appointments with pre-screened potential buyers, agents, distributors and joint venture partners; possible meetings with government officials; and networking events. Participating in an official U.S. industry delegation will enhance the companies' ability to secure meetings with senior officials in Kuwait and Saudi Arabia.

Schedule
Saturday, November 12, 2016 | Delegates arrive in Kuwait City check-in, participate in ice-breaker event, and rest overnight.
Sunday, November 13, 2016 | Briefing with CS. Business matchmaking sessions. Networking Reception.
Monday, November 14, 2016 | Meetings with Kuwaiti Government officials. Travel to Riyadh. Ice Breaker event.
Tuesday, Nov. 15, 2016 | Business matchmaking sessions. Optional visit to IFSEC. Networking Dinner at Ambassador residence.
Wednesday, Nov. 16, 2016 | Optional visit to IFSEC. Business matchmaking sessions. Evening travel to Dhahran.
Thursday, Nov. 17, 2016 | Briefing with U.S. Consulate in Dhahran.
| Business matchmaking sessions.
| Site visits to Aramco and Jubail. Networking reception.

Web site: Please visit our official mission Web site for more information: http://www.export.gov/trademissions/.

Participation Requirements

All parties interested in participating in the trade mission must complete and submit an application package for consideration by DOC. All applicants will be evaluated on their ability to meet certain conditions and best satisfy the selection criteria as outlined below. U.S. companies already doing business with Saudi Arabia as well as U.S. companies seeking to enter to the Saudi market for the first time may apply. A minimum of 15 and a maximum of 20 companies will be selected for participation in this mission.

Fees and Expenses

After a company has been selected to participate on the mission, a payment to the DOC in the form of a participation fee is required. (The participation fee is $3,300 for large firms and $2,900 for a small or medium-sized enterprise (SME), which covers one representative. The fee for each additional representative is $750) this is just a suggestion.

Expenses for travel, lodging, meals, and incidentals will be the responsibility of each mission participant. Delegation members will be able to take advantage of U.S. Embassy rates for hotel rooms.

Application

All interested firms and associations may register via the following link: http://emenuapps.ita.doc.gov/ePublic/TM/6R0R.

Exclusions

The mission fee does not include any personal travel expenses such as lodging, most meals, local ground transportation, and air transportation from the U.S. to the mission sites, between mission sites, and return to the United States. Business visas may be required. Government fees and processing expenses to obtain such visas are also not included in the mission costs. However, the U.S. Department of Commerce will provide instructions to each participant on the procedures required to obtain necessary business visas.

Timeline for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. Recruitment for the mission will conclude no later than April 30, 2016. All applicants will be vetted by the Department of Commerce after September 1, 2016. Applications received after September 1, 2016 will be considered only if space and scheduling constraints permit.

Conditions for Participation

An applicant must submit a completed and signed mission application and supplemental application materials, including adequate information on the company's products and/or services, primary market objectives, and goals for participation. If the Department of Commerce receives an incomplete application, the Department may reject the application, request additional information, or take the lack of information into account when evaluating the applications.

Each applicant must also certify that the products and services it seeks to export through the mission are either produced in the United States, or, if not, marketed under the name of a U.S. firm and have at least 51 percent U.S. content of the value of the finished product or service.

FOR FURTHER INFORMATION CONTACT:

Mr. Douglas Wallace, U.S. Commercial Service, Riyadh, Saudi Arabia, Tel: +966 11 488-3800, Email: douglas.wallace@trade.gov.

Ms. Jessica Dulkadir, International Trade Specialist, Trade Missions, U.S. Department of Commerce, Washington, DC 20230, Tel: 202-482-2026, Fax: 202-482-9000, Jessica.Dulkadir@trade.gov.

Frank Spector,
Acting Director, Trade Missions Program.

[FR Doc. 2015-31146 Filed 12-9-15; 8:45 am]

BILLING CODE 3510-DR-P